NUCLEAR REGULATORY COMMISSION

[Docket No. 70-7015-ML; ASLBP No. 10-899-02-ML-BD01]

Areva Enrichment Services, LLC; Establishment of Atomic Safety and Licensing Board

Pursuant to delegation by the Commission dated December 29, 1972, published in the Federal Register, 37 FR 28,710 (1972), and the Commission's regulations, see 10 CFR 2.104, 2.105, 2.300, 2.309, 2.313, 2.318, and 2.321, notice is hereby given that an Atomic Safety and Licensing Board (Board) is being established to preside over the following proceeding:

Areva Enrichment Services, LLC

(Eagle Rock Enrichment Facility)

This Board is being established pursuant to a Notice of Hearing and Commission Order regarding the application of Areva Enrichment Services, LLC for a license to possess and use source, byproduct, and special nuclear material and to enrich natural uranium to a maximum of 5 percent by the gas centrifuge process at a proposed plant to be known as the Eagle Rock Enrichment Facility that would be located in Bonneville County, Idaho. See 74 FR 38,052 (July 30, 2009). No request for hearing or petition to intervention has been received in response to the notice in the Federal Register. Because Areva is seeking authorization to construct a uranium enrichment facility, a mandatory hearing is required.

The Board is comprised of the following administrative judges:

Alex S. Karlin, Chair, Atomic Safety and Licensing Board Panel, U.S. Nuclear Regulatory Commission, Washington, DC 20555-0001;

Kaye D. Lathrop, Atomic Safety and Licensing Board Panel, U.S. Nuclear Regulatory Commission, Washington, DC 20555-0001;

Craig M. White, Atomic Safety and Licensing Board Panel, U.S. Nuclear Regulatory Commission, Washington, DC 20555-0001.

All correspondence, documents, and other materials shall be filed in accordance with the NRC E-Filing rule, which the NRC promulgated in August 2007 (72 FR 49,139).

Issued at Rockville, Maryland, this 26th day of March 2010.
E. Roy Hawkens,
Chief Administrative Judge, Atomic Safety and Licensing Board Panel.

[FR Doc. 2010-7457 Filed 4-1-10; 8:45 am]

BILLING CODE 7590-01-P